DEPARTMENT OF THE INTERIOR

National Park Service

[N6573; NPS-WASO-NAGPRA-NPS0041250; PPWOCRADN0-PCU00RP14.R50000]

Notice of Intended Repatriation: U.S. Army Corps of Engineers, San Francisco District, San Francisco, CA

AGENCY: National Park Service, Interior.

ACTION: Notice.

SUMMARY: In accordance with the Native American Graves Protection and Repatriation Act (NAGPRA), the U.S. Army Corps of Engineers, San Francisco District intends to repatriate certain cultural items that meet the definition of unassociated funerary objects, sacred objects, and/or objects of cultural patrimony and that have a cultural affiliation with the Indian Tribes or Native Hawaiian organizations in this notice.

DATES: Repatriation of the cultural items in this notice may occur on or after December 17, 2025.

ADDRESSES: Send additional, written requests for repatriation of the cultural items in this notice to Dr. Stephanie Bergman Sahinoglu, Cultural Resources Lead, U.S. Army Corps of Engineers, San Francisco District, 450 Golden Gate Avenue, 4th Floor, San Francisco, CA 94102, email stephanie.m.bergman@usace.army.mil.

SUPPLEMENTARY INFORMATION: This notice is published as part of the National Park Service's administrative responsibilities under NAGPRA. The determinations in this notice are the sole responsibility of the U.S. Army Corps of Engineers, San Francisco District, and additional information on the determinations in this notice, including the results of consultation, can be found in the summary or related records. The National Park Service is not responsible for the determinations in this notice.

Abstract of Information Available

The sites in this notice were recorded during the construction of the Warm Springs Dam in Sonoma County, California. Dam construction began in 1967 prompting cultural resource investigations at Lake Sonoma which identified many of these sites in the 1970s. These sites were excavated throughout the 1970s and early 1980s, often by Martin A. Baumhoff of the University of California, Davis and David A. Fredrickson of the Sonoma State University.

A total of 870 cultural items from site CA-SON-544 have been requested for repatriation. The 870 unassociated funerary objects are: 46 individual plus one lot of charcoal samples, three chert cores, 59 pieces plus 26 lots of chert debitage, five chert flakes, 23 pieces of chert, four chert projectile points, one chert tool, 10 column samples, 271 fragments plus 24 lots of faunal remains, 10 pieces plus one lot of glass, 14 pieces of groundstone, one lot of lithic debitage, four lithic tools, one piece plus two lots of metal, 21 pieces plus 16 lots of obsidian debitage, two obsidian flakes, 18 obsidian hydration slides, eight individual pieces plus four lots of obsidian, one individual plus two lots of obsidian projectile points, 14 pieces of ochre, 11 projectile points, 119 pieces plus eight lots of quartz, 37 individual plus five lots of rock, 61 fragments plus 19 lots of shell, 16 soil samples, one piece of wood, and one lot of petrified wood.

A total of 413 cultural items from site CA-SON-547 have been requested for repatriation. The 413 unassociated funerary objects are: two ash lens samples, 49 lots of charcoal samples, two chert cores, nine pieces plus 12 lots of chert debitage, one lot of chert projectile points, three pieces of chert, three individual plus one lot of chert tools, 178 fragments plus 26 lots of faunal remains, one piece plus one lot of glass, five pieces of groundstone, three lithic tools, one lot of metal and wood, 34 pieces plus 19 lots of obsidian debitage, 14 obsidian hydration slides, two lots of quartz flakes, 16 pieces of quartz, two individual plus nine lots of rock, and 10 individual plus 10 lots of soil samples.

A total of one cultural item from site CA-SON-549 has been requested for repatriation. The one unassociated funerary object is a piece of groundstone.

A total of one cultural item from site CA-SON-550 has been requested for repatriation. The one unassociated funerary object is one lot of chert flakes.

A total of 427 cultural items from site CA-SON-551 have been requested for repatriation. The 427 unassociated funerary objects are: four pieces of basalt debitage, 22 charcoal samples, one chert core, 58 pieces plus 38 lots of chert debitage, one chert flake, 42 pieces of chert, one lot of chert tools, two pieces plus one lot of groundstone, two lithic cores, 17 pieces plus nine lots of lithic debitage, 19 individual plus one lot of lithic tools, 155 pieces plus three lots of obsidian debitage, 16 obsidian flakes, one individual plus one lot of obsidian tools, one pieces of ochre, 28 pieces plus one lot of quartz, one shell fragment, and two lots of soil samples.

A total of 17 cultural items from site CA-SON-552 have been requested for repatriation. The 17 unassociated funerary objects are: two lots of ceramics, three fragments plus two lots of faunal remains, two lots of glass, one lot of leather, four lots of metal, one piece of ochre, one piece of quartz, and one lot of wood.

A total of 2,077 cultural items from site CA-SON-553 have been requested for repatriation. The 2,077 unassociated funerary objects are: one awl, three botanic samples, five individual plus 163 lots of charcoal samples, three chert cores, 69 pieces plus 56 lots of chert debitage, 13 individual plus 12 lots of chert flakes, 12 pieces plus one lot of chert, two individual plus two lots of chert tools, 690 fragments plus 152 lots of faunal remains, 41 lots of floatation samples, one piece of glass, one lot of glass and metal, eight pieces plus two lots of groundstone, nine lots of lithic debitage, four lithic cores, one lithic tool, 70 pieces plus 14 lots of obsidian debitage, 75 individual plus one lot of obsidian flakes, 26 obsidian hydration slides, four pieces plus one lot of obsidian, one obsidian projectile point, 10 obsidian tools, 10 pieces plus two lots of ochre, eight pestles, 389 pieces of quartz debitage, five quartz cores, 75 pieces plus 23 lots of quartz, 13 shell beads, 38 fragments plus 46 lots of shell, one individual plus nine lots of soil samples, three pieces plus one lot of wood, and one wood tool.

A total of 45 cultural items from site CA-SON-554 have been requested for repatriation. The 45 unassociated funerary objects are: 33 chert cores, 10 pieces of chert debitage, one chert tool, and one quartz core.

A total of two cultural items from site CA-SON-555 have been requested for repatriation. The two unassociated funerary objects are one piece plus one lot of groundstone.

A total of 3,088 cultural items from site CA-SON-556 have been requested for repatriation. The 3,088 unassociated funerary objects are: 73 individual plus nine lots of botanic samples, eight sherds plus two lots of ceramics, seven pieces plus one lot of ceramic stoneware, 85 individual plus 26 lots of charcoal samples, one charmstone, one piece of chert, eight individual plus three lots of chert cores, 59 pieces plus 40 lots of chert debitage, 97 chert flakes, five chert projectile points, 21 individual plus six lots of chert tools, one coin, four cooking stones, two pieces of cork, 707 fragments plus 356 lots of faunal remains, seven lots of flotation samples, 253 pieces plus seven lots of glass, 58 pieces plus two lots of groundstone, one piece of leather, 92 pieces plus three lots of metal, six pieces of mica schist, one piece of obsidian, two obsidian cores, 93 pieces plus 46 lots of obsidian debitage, 24 individual plus one lot of obsidian flakes, 108 obsidian hydration slides, one obsidian preform, 13 obsidian projectile points, 134 individual plus one lot of obsidian tools, 113 pieces of ochre, two pieces of plastic, 407 pieces of quartz, six pieces of quartz debitage, three quartz cores, two quartz flakes, 10 rocks, one seed bead, seven fragments plus one lot of shell, one shell bead, 115 individual plus 30 lots of soil samples, one spoon, four stone beads, and seven pieces plus three lots of wood.

A total of two cultural items from site CA-SON-558 have been requested for repatriation. The two unassociated funerary objects are: one lot of charcoal samples and one lot of groundstone.

A total of 1,489 cultural items from site CA-SON-566 have been requested for repatriation. The 1,489 unassociated funerary objects are: 460 pieces plus 59 lots of chert debitage, 204 fragments plus 55 lots of faunal remains, 361 pieces plus 136 lots of obsidian debitage, one rock, 187 fragments plus 25 lots of shell, and one piece of wood.

A total of 96 cultural items from site CA-SON-567 have been requested for repatriation. The 96 unassociated funerary objects are: two chert flakes, five faunal remains, 45 pieces plus 22 lots of metal, 16 obsidian hydration slides, one obsidian projectile point, and three pieces plus two lots of wood.

A total of 1,450 cultural items from site CA-SON-568 have been requested for repatriation. The 1,450 unassociated funerary objects are: one individual plus one lot of botanic samples, 85 individual plus 125 lots of charcoal samples, 35 individual plus one lot of chert cores, 8 pieces plus 103 lots of chert debitage, 55 chert flakes, 54 pieces plus two lots of chert, 22 chert projectile points, 13 individual plus three lots of chert tools, one coin, one lot of debitage, 438 fragments plus 98 lots of faunal remains, three flotation samples, one piece plus one lot of glass, 24 pieces of groundstone, nine pieces plus two lots of lithic debitage, nine pieces plus five lots of metal, three lots of mixed metal and glass, one piece of mica schist, 10 pieces plus eight lots of obsidian debitage, three lots of obsidian flakes, 79 obsidian hydration slides, 37 pieces plus one lot of obsidian, four individual plus one lot of obsidian projectile points, two obsidian tools, one projectile point, eight pieces of quartz, three quartz cores, five pieces of quartz debitage, 88 individual plus four lots of quartz flakes, two quartz tools, 10 rocks, three fire cracked rocks, 24 fragments plus one lot of shell, and 46 individual plus six lots of soil samples.

A total of one cultural item from site CA-SON-570 has been requested for repatriation. The one unassociated funerary object is a charcoal sample.

A total of 307 cultural items from site CA-SON-571 have been requested for repatriation. The 307 unassociated funerary objects are: one piece of chert, one faunal remain, 24 pieces of groundstone, 108 obsidian hydration slides, 158 pieces of obsidian, one soil sample, and 14 stone beads.

A total of 2,587 cultural items from site CA-SON-572 have been requested for repatriation. The 2,587 unassociated funerary objects are: eight botanic samples, 67 charcoal samples, 23 individual plus one lot of chert cores, 644 pieces plus 194 lots of chert debitage, 39 individual plus two lots of chert flakes, 33 pieces of chert, 13 chert projectile points, 52 chert tools, 311 fragments plus 30 lots of faunal remains, 89 pieces of groundstone, 14 lots of lithic debitage, 130 pieces plus five lots of obsidian, one obsidian core, 469 pieces plus 210 lots of obsidian debitage, 52 individual plus one lot of obsidian flakes, 67 obsidian hydration slides, 31 obsidian projectile points, 55 obsidian tools, 13 pieces of ochre, five pieces plus one lot of quartz, and 18 individual plus nine lots of soil samples.

A total of two cultural items from site CA-SON-573 have been requested for repatriation. The two unassociated funerary objects are groundstone.

A total of 13 cultural items from site CA-SON-575 have been requested for repatriation. The 13 unassociated funerary objects are: eight pieces plus one lot of chert debitage, one lot of faunal remains, one piece plus one lot of obsidian debitage, and one piece of quartz.

A total of 2,581 cultural items from site CA-SON-576 have been requested for repatriation. The 2,581 unassociated funerary objects are: six botanic samples, 144 sherds plus 11 lots of ceramics, 168 individual plus six lots of charcoal samples, 24 chert cores, 411 pieces plus 79 lots of chert debitage, 32 chert flakes, four chert projectile points, eight chert tools, 526 fragments plus 88 lots of faunal remains, 18 lots of flotation samples, 80 pieces plus five lots of glass, 27 pieces of groundstone, one piece of leather, 487 pieces plus two lots of lithic debitage, 72 pieces plus 10 lots of metal, one piece of mica schist, one obsidian core, 224 pieces plus 37 lots of obsidian debitage, nine obsidian flakes, eight obsidian hydration slides, 30 pieces of obsidian, 14 obsidian projectile points, 12 obsidian tools, 10 pieces of ochre, one lot of organic material, one quartz flake, two individual plus one lot of rock, 14 shell fragments, three lots of soil samples, and three pieces plus one lot of wood.

A total of 618 cultural items from site CA-SON-577 have been requested for repatriation. The 618 unassociated funerary objects are: 92 charcoal samples, six pieces of chert, 12 individual plus two lots of chert cores, 200 pieces plus 106 lots of chert debitage, 13 chert flakes, three chert projectile points, 51 individual plus one lot of chert tools, 16 fragments plus 23 lots of faunal remains, nine lots of flotation samples, two pieces of lithic debitage, one lithic tool, two pieces of mica schist, two pieces plus five lots of obsidian debitage, 38 individual plus one lot of obsidian flakes, three obsidian hydration slides, one lot of obsidian pieces, seven obsidian projection points, one piece of ochre, one quartz core, seven pieces of quartz debitage, one rock, one shell fragment, four individual plus four lots of soil samples, and three stone beads.

A total of 18 cultural items from site CA-SON-578 have been requested for repatriation. The 18 unassociated funerary objects are: three pieces plus three lots of chert debitage, eight pieces of lithic debitage, and four shell fragments.

A total of one cultural item from site CA-SON-579 has been requested for repatriation. The one unassociated funerary object is an obsidian projectile point.

A total of four cultural items from site CA-SON-581 have been requested for repatriation. The four unassociated funerary objects are chert flakes.

A total of 91 cultural items from site CA-SON-582 have been requested for repatriation. The 91 unassociated funerary objects are: six lots of charcoal samples, two faunal remains, 73 flotation samples, two pieces of groundstone, and eight obsidian hydration slides.

A total of 49 cultural items from site CA-SON-584 have been requested for repatriation. The 49 unassociated funerary objects are: 22 chert cores, one piece of chert debitage, eight chert tools, one lithic tool, one obsidian hydration slide, and 16 obsidian tools.

A total of 246 cultural items from site CA-SON-588 have been requested for repatriation. The 246 unassociated funerary objects are: 11 individual plus one lot of botanic samples, one chert core, 15 pieces of chert debitage, one chert flake, 12 fragments plus four lots of faunal remains, 70 pieces plus one lot of glass, four pieces of groundstone, 13 sherds plus one lot of ceramics, 45 pieces plus 37 lots of metal, 20 miscellaneous historic objects, five pieces of obsidian debitage, two obsidian flakes, and three pieces of wood.

A total of three cultural items from site CA-SON-592 have been requested for repatriation. The three unassociated funerary objects are: one chert projectile point, one piece of groundstone, and one piece of lithic debitage.

A total of 3,816 cultural items from site CA-SON-593I have been requested for repatriation. The 3,814 unassociated funerary objects are: eight ash lens samples, 28 botanic samples, 39 sherds plus one lot of ceramics, 212 charcoal samples, 11 chert cores, 519 pieces plus 107 lots of chert debitage, 50 chert flakes, one individual plus three lots of chert tools, 185 fragments plus 391 lots of faunal remains, 30 faunal bone tools, eight lots of flotation samples, 39 pieces plus six lots of glass, 58 pieces plus six lots of groundstone, four pieces plus two lots of lithic debitage, 65 pieces plus 14 lots of metal, one individual and one lot of miscellaneous historic objects, 867 pieces plus 199 lots of obsidian debitage, nine obsidian flakes, 98 obsidian hydration slides, 88 obsidian projectile points, five obsidian tools, 35 pieces plus one lot of ochre, two quartz cores, 27 quartz flakes, 35 quartz tools, 30 quartz pieces, 11 individual and two lots of rock, 39 individual plus one lot of shell beads, 456 fragments plus 68 lots of shell, 12 individual plus 12 lots of soil samples, two trade beads, and 25 pieces plus one lot of wood. The two objects of cultural patrimony are cupule rocks (baby rocks).

A total of 2,345 cultural items from site CA-SON-593II have been requested for repatriation. The 2,345 unassociated funerary objects are: two lots of botanic samples, 191 lots of charcoal samples, eight chert cores, 691 pieces plus 170 lots of chert debitage, three chert flakes, one piece of chert, 23 chert projectile points, 21 chert tools, 282 fragments plus 91 lots of faunal remains, 18 pieces of groundstone, one piece plus 19 lots of lithic debitage, one obsidian core, 503 pieces plus 138 lots of obsidian debitage, nine obsidian flakes, one piece of obsidian, five obsidian projectile points, 45 obsidian tools, two quartz cores, 94 pieces plus three lots of quartz debitage, and 23 soil samples.

A total of 1,254 cultural items from site CA-SON-597 have been requested for repatriation. The 1,254 unassociated funerary objects are: four individual plus one lot of botanic samples, 125 charcoal samples, eight pieces of chert, 20 chert cores, 365 pieces plus 143 lots of chert debitage, 10 chert projectile points, seven chert tools, 17 faunal remains, 15 individual plus eight lots of floatation samples, six pieces of glass, 31 pieces plus two lots of groundstone, nine pieces plus 13 lots of lithic debitage, three lithic flakes, 19 pieces plus two lots of metal, 273 pieces plus 54 lots of obsidian debitage, three individual plus one lot of obsidian flakes, 15 obsidian hydration slides, one piece of obsidian, 19 obsidian projectile points, one lot of obsidian tools, eight pieces plus one lot of ochre, 24 pieces of quartz debitage, one quartz tool, two rocks, six individual plus eight lots of soil samples, and 26 pieces plus three lots of wood.

A total of one cultural item from site CA-SON-598 has been requested for repatriation. The one unassociated funerary object is a lot of flotation samples.

A total of one cultural item from site CA-SON-608 has been requested for repatriation. The one object of cultural patrimony is a cupule rock (baby rock).

A total of 10 cultural items from site CA-SON-1163 have been requested for repatriation. The 10 unassociated funerary objects are: one lot of leather and nine pieces of metal.

A total of one cultural item from site CA-SON-1168 has been requested for repatriation. The one unassociated funerary object is a piece of metal.

A total of 243 cultural items from site CA-SON-UNKNOWN have been requested for repatriation. The 243 unassociated funerary objects are: 70 pieces of groundstone and 173 obsidian hydration slides.

Determinations

The U.S. Army Corps of Engineers, San Francisco District has determined that:

• The 24,167 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Cloverdale Rancheria of Pomo Indians of California; Dry Creek Rancheria Band of Pomo Indians, California; and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 17, 2025. If competing requests for repatriation are received, the U.S. Army Corps of Engineers, San Francisco District must determine the most appropriate requestor prior to repatriation. Requests for joint repatriation of the cultural items are considered a single request and not competing requests. The U.S. Army Corps of Engineers, San Francisco District is responsible for sending a copy of this notice to the Indian Tribes and Native Hawaiian organizations identified in this notice and to any other consulting parties.

Authority: Native American Graves Protection and Repatriation Act, 25 U.S.C. 3004 and the implementing regulations, 43 CFR 10.9.

Dated: September 25, 2025.
Melanie O'Brien,
Manager, National NAGPRA Program.

[FR Doc. 2025-19967 Filed 11-14-25; 8:45 am]

BILLING CODE 4312-52-P